DEPARTMENT OF THE INTERIOR

Bureau of Land Management

National Park Service

[ID 231 1610 DQ 051D]

Notice of Availability of the Proposed Management Plan and Final Environmental Impact Statement (EIS) for the Craters of the Moon National Monument and Preserve

AGENCIES: Bureau of Land Management (BLM) and National Park Service (NPS).

ACTION: Reissuance of a Notice of Availability of a Final EIS for a Proposed Resource Management Plan / General Management Plan (hereinafter, Proposed Plan/Final EIS), for the Craters of the Moon National Monument and Preserve. The Monument is located in Blaine, Butte, Lincoln, Minidoka, and Power Counties, in Idaho. (This Notice of Availability was prematurely released on August 12, 2005 and retracted.)

SUMMARY: In accordance with the Federal Land Policy and Management Act of 1976, the National Park and Recreation Act of 1978, and the National Environmental Policy Act of 1969, the Bureau of Land Management and the National Park Service have jointly prepared a Proposed Plan/Final EIS for the Craters of the Moon National Monument and Preserve. The Final EIS discusses public and agency comments received on the draft EIS. It describes and analyzes four alternative management strategies, each presenting a different approach to resolving issues identified through public scoping. Alternative A is the “no action” or continuation of present management alternative. Alternative B would promote more travel and access within the Monument. Alternative C would emphasize retention and enhancement of the Monument's primitive character. The Proposed Plan is Alternative D, the agency preferred alternative from the draft Plan/EIS, refined by public comment. Alternative D, which emphasizes protection and restoration of physical and biological resources, is also considered to be the environmentally preferred alternative.

DATES: No decision on the proposed plan will be made for at least 30 days after the Environmental Protection Agency publishes its notice of availability of this final EIS in the Federal Register. BLM regulations (43 CFR 1610.5-2) state that any person who participated in the planning process and has an interest that may be adversely affected may protest those proposed decisions that would be implemented on BLM-administered lands. The protest must be filed within 30 days of the date that the Environmental Protection Agency publishes its notice of availability.

The National Park Service regulations do not provide a formal protest process. However, persons wishing to communicate with the Regional Director of the NPS during the 30 days after the Environmental Protection Agency's notice is published may do so by sending correspondence to Jonathan B. Jarvis, Regional Director, National Park Service, 1111 Jackson Street, Oakland CA 94607.

Instructions for filing protests with the BLM are included in the SUPPLEMENTARY INFORMATION section of this notice.

ADDRESSES: The Proposed Plan/FEIS is posted on Web sites at http://www.id.blm.gov/planning/craters/index.htm or http://www.nps.gov/crmo and has been mailed to those who have indicated that they want to receive it in hard copy or on a compact disk. Additional copies in both paper and digital format are available in limited numbers. To receive a copy, write or call one of the individuals identified in the next paragraph.

FOR FURTHER INFORMATION CONTACT: Richard VanderVoet, Monument Manager, Bureau of Land Management, Shoshone Field Office, 400 West F Street, Shoshone, ID 83352-1522, phone (208) 732-7200 or John Apel Acting Superintendent, National Park Service, P.O. Box 29, Arco, ID 83213, phone (208) 527-3257.

SUPPLEMENTARY INFORMATION: Established in 1924, the Craters of the Moon National Monument was expanded by Presidential Proclamation 7373 on November 9, 2000, for the purpose of protecting the entire Great Rift volcanic zone and associated lava features, all objects of scientific interest. On August 21, 2002, Public Law 107-213 re-designated the National Park Service portion of the expanded Monument as a National Preserve. The Bureau of Land Management and National Park Service are managing the National Monument and Preserve cooperatively and are preparing one management plan to be implemented by both agencies.

The key components of the Proposed Plan are as follows:

• Promotes use of partnerships at off-site facilities such as visitor centers and state parks to provide Monument information and interpretation.

• Emphasizes protection of vegetation resources in North Laidlaw Park.

• Maintains a road network suitable for aggressive fire suppression and restoration activities within the Monument.

• Encourages outfitter and guide services in the expanded portion of the Monument, instead of new agency-provided services and facilities.

• Promotes a proactive Integrated Weed Management Program.

• Proactively protects and restores sagebrush steppe communities.

• Continues to focus visitor experience within the Monument on the existing lands and facilities located at the north end of the Monument.

• Continues management of the wilderness area within the original National Monument boundary and the wilderness study areas that are awaiting Congressional action. Proposes a joint NPS/BLM wilderness/WSA management plan.

Protests regarding proposed decisions affecting BLM-administered lands must be in writing and filed with the BLM Director. Protests may raise only those issues that were submitted for the record during the planning process. E-mail and faxed protests will not be accepted as valid protests unless the protesting party also provides the original letter by either regular or overnight mail postmarked by the close of the protest period. Under these conditions the BLM will consider the e-mail or faxed protest as an advance copy, and it will receive full consideration. If you wish to provide the BLM with such advance notification, please direct faxed protests to the attention of the BLM Protest Coordinator at (202) 452-5112 and e-mails to Brenda_Hudgens-Williams@blm.gov. Please direct the follow-up letters to the appropriate address provided below. To be considered complete, your protest must contain at minimum, the following information: (1) The name, mailing address, telephone number and interest of the person filing the protest; (2) a statement of the issue or issues being protested; (3) a statement of the part or parts of the plan being protested; (4) a copy of all documents addressing the issue or issues that were submitted during the planning process by the protesting party or an indication of the date the issue or issues were discussed for the record; and (5) a concise statement explaining why the State Director's decision is believed to be wrong. A protest merely expressing disagreement with the State Director's proposed decision without providing any supporting data will not be considered a valid protest.

All written protests must be mailed to one of the following addresses:

Regular Mail, Director, WO-210/LS-1075, Bureau of Land Management, Attn: Brenda Hudgens-Williams, Department of the Interior, P.O. Box 66538, Washington, DC 20035, or

Overnight Mail, Director, WO-210/LS-1075, Bureau of Land Management, Attn: Brenda Hudgens-Williams, Department of the Interior, 1610 L Street, NW., Suite 1075, Washington, DC 20036.

To be considered timely, your protest must be postmarked no later than the last day of the protest period. Though not a requirement, it is suggested that protests be sent by certified mail, return receipt requested. You are also encouraged, but not required, to forward a copy of your protest to the Monument Manager at the address listed under FOR FURTHER INFORMATION above. This may allow the BLM to resolve the protest through clarification of intent or discussion with the protestor.

Please note that protests, including names and street addresses, are available for public review and/or release under the Freedom of Information Act (FOIA). Individual respondents may request confidentiality. Respondents who wish to withhold their name and/or street address from public review or from disclosure under FOIA must state so prominently at the beginning of the written correspondence. Such requests will be honored to the extent allowed by law. All submissions from organizations or businesses, and from individuals identifying themselves as representing organizations or businesses, will be made available for public inspection in their entirety.

Following resolution of any protests of the proposed decision, a joint record of decision will be signed by the Regional Director of the Pacific West Region of the National Park Service and the State Director of the Bureau of Land Management for Idaho. A notice of availability of the record of decision will be published in the Federal Register and through local news media.

Dated: August 19, 2005.
K. Lynn Bennett,
Bureau of Land Management, Idaho State Director.
Dated: August 17, 2005.
Patricia L. Neubacher,
National Park Service, Acting Regional Director, Pacific West Region.

[FR Doc. 05-16950 Filed 8-25-05; 8:45 am]

BILLING CODE 4310-GG-P